DEPARTMENT OF COMMERCE

National Oceanic and Atmospheric Administration

Evaluation of National Estuarine Research Reserve

AGENCY: National Oceanic and Atmospheric Administration (NOAA), Office for Coastal Management, National Ocean Service, Commerce.

ACTION: Notice of intent to evaluate.

SUMMARY: The NOAA Office for Coastal Management (OCM) announces its intent to evaluate the performance of the Weeks Bay and South Slough National Estuarine Research Reserves.

The National Estuarine Research Reserve evaluations will be conducted pursuant to sections 312 and 315 of the Coastal Zone Management Act (CZMA) and regulations at 15 CFR part 921, subpart E and part 923, subpart L. Evaluation of a National Estuarine Research Reserve requires findings concerning the extent to which a state has met the national objectives, adhered to its Reserve final management plan approved by the Secretary of Commerce, and adhered to the terms of financial assistance awards funded under the CZMA.

The evaluation will include a public meeting, consideration of written and oral public comments and consultations with interested Federal, state, and local agencies and members of the public. When the evaluation is completed, OCM will place a notice in the Federal Register announcing the availability of the Final Evaluation Findings. Notice is hereby given of the date, local time, and location of the public meeting.

DATES: The Weeks Bay National Estuarine Research Reserve public meeting will be held Wednesday, September 9, 2015, at 6:00 p.m. at the Weeks Bay Auditorium at 11300 U.S. Highway 98, Fairhope, Alabama.

The South Slough National Estuarine Research Reserve public meeting will be held Wednesday, September 16, 2015, at 5 p.m. at the South Slough Reserve at 61907 Seven Devils Road, Charleston, Oregon.

ADDRESSES: Copies of the reserves' most recent performance report, as well as OCM's evaluation notification letter to the state, are available upon request from OCM. Written comments from interested parties regarding these programs are encouraged and will be accepted for Weeks Bay Reserve until September 18, 2015 and for South Slough Reserve until September 25, 2015. Please direct written comments to Carrie Hall, Evaluator, Planning and Performance Measurement Program, Office for Coastal Management, NOS/NOAA, 1305 East-West Highway, Rm. 11212, N/OCM1, Silver Spring, Maryland 20910, or Carrie.Hall@noaa.gov.

FOR FURTHER INFORMATION CONTACT: Carrie Hall, Evaluator, Planning and Performance Measurement Program, Office for Coastal Management, NOS/NOAA, 1305 East-West Highway, Rm. 11212, N/OCM1, Silver Spring, Maryland 20910, or Carrie.Hall@noaa.gov.

(Federal Domestic Assistance Catalog 11.419 Coastal Zone Management Program Administration)

Dated: July 31, 2015.
Christopher C. Cartwright,
Associate Assistant Administrator for Management and CFO/CAO, Ocean Services and Coastal Zone Management, National Oceanic and Atmospheric Administration.

[FR Doc. 2015-19444 Filed 8-5-15; 8:45 am]

BILLING CODE 3510-08-P